DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director of the Emergency Preparedness and Response Directorate has resolved any appeals resulting from this notification.

This final rule is issued in accordance with Section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) modified ◆Elevation in feet (NAVD) modified
MO | Knob Noster (City) Johnson County (FEMA Docket No. P7659) | Clear Fork Hughes Branch Tributary 1 Tributary 2 |  | ◆726 ◆779 ◆781 ◆778
Maps are available for inspection at City Hall, 218 North State Street, Knob Noster, Missouri.
OK | Altus (City) Jackson County (FEMA Docket No. P7659) | Tributary 1 | Approximately 0.40 mile downstream of North 2070 Road/Challenger Boulevard Approximately 250 feet upstream of East Tammarack Road | *1,339 *1,376
|  | Tributary 2 | Just upstream of the Burlington and Santa Fe Railroad Bridge | *1,346
|  |  | Approximately 1.7 miles upstream of Veterans Drive | *1,370
|  | Tributary 3 | At the confluence with Tributary 1 | *1,363
Maps are available for inspection at 300 East Commerce Street, Altus, Oklahoma.
OK | Jackson County (Unicorporated Areas) (FEMA Docket No. P7659) | Tributary 1 | Just downstream of County Highway 164 Approximately 1,550 feet upstream of the confluence of Tributary 2 | *1,334 *1,343
|  | Tributary 2 | At confluence with Tributary 1 | *1,343
|  |  | Just upstream of the Burlington Northern and Santa Fe Railway Bridge | *1,346
Maps are availabe for inspection at 101 North Main Street, Room 101, Altus, Oklahoma.
OK | Blanchard (City) Grady and McClain Counties (FEMA Docket No. P7663) | Bridge Creek | Approximately 150 feet downstream of County Line Road Just downstream of County Line Road | *1,199 *1,199
|  | East Branch Walnut Creek Tributary | Approximately 1,675 feet downstream of Southeast 7th Street | *1,196
|  |  | Approximately 525 feet upstream of Northeast 10th Street | *1,270
|  | North Fork Walnut Creek | Approximately 2,570 feet downstream of U.S. Highway 62/277 | *1,164
|  |  | Approximately 22,820 feet upstream of U.S. Highway 62/277 | *1,201
|  | Stinson Creek | Approximately 20 feet downstream of Sandrock Road | *1,208
|  |  | Approximately 1,190 feet upstream of Sandrock Road | *1,212
|  | Tributary A2 | At the confluence with West Branch Walnut Creek Tributary | *1,217
|  |  | Approximately 3,585 feet upstream of the confluence with West Branch Walnut Creek Tributary | *1,241
|  | West Branch Walnut Creek Tributary | Approximately 4,035 feet downstream of Southeast 7th Street | *1,195
|  |  | Approximately 3,690 feet upstream of N2990 Road | *1,242
Maps are available for inspection at City Hall, 114 West Broadway, Blanchard, Oklahoma.
OK | Grady County (Unincorporated Areas) (FEMA Docket No. P7663) | West Branch Walnut Creek Tributary | Approximately 160 feet downstream of N2990 Road Approximately 4,030 feet upstream of N2990 Road | *1,227 *1,244
Maps are available for inspection at 4th Street and Choctaw Street, Chickasha, Oklahoma
OK | McClain County (Unincorporated Areas) (FEMA Docket No. P7663) | East Branch Walnut Creek Tributary | At the confluence with West Branch Walnut Creek Tributary Approximately 2,320 feet upstream of confluence with West Branch Walnut Creek Tributary | *1,180 *1,197
|  | North Fork Walnut Creek | Approximately 24,660 feet upstream of the confluence with Walnut Creek | *1,164
|  |  | Approximately 7,340 feet upstream of State Highway 76 | *1,201
|  | Stinson Creek (Lower Reach) | At the confluence with North Fork Walnut Creek | *1,175
|  |  | Approximately 6,500 feet upstream of Quailhaven Road | *1,208
|  | West Branch Walnut Creek Tributary | Approximately 3,350 feet upstream of the confluence with Walnut Creek | *1,171
|  |  | Approximately 2,590 feet upstream of Tyler Avenue | *1,206
Maps are available for inspection at 501 North Street, Purcell, Oklahoma.
TX | Corsicana (City) Navarro County (FEMA Docket No. P7659) | Mesquite Branch | At the confluence with Post Oak Creek (Lower Reach) Approximately 20 feet upstream of South 15th Street | *368 *416
|  | Post Oak Creek (Lower Reach) | Approximately 200 feet downstream of the confluence of Mesquite Branch | *368
|  |  | Approximately 370 feet downstream of the confluence of South Fork Post Oak Creek and divergence of Post Oak Creek (Upper Reach) | *407
|  | Post Oak Creek (Upper Reach) | Approximately 350 feet upstream of the confluence of South Fork Post Oak Creek and divergence of Post Oak Creek (Upper Reach) | *408
|  |  | Approximately 2,960 feet upstream of Bowie Drive | *416
|  | Post Oak Creek Tributary 3 | At the confluence with Post Oak Creek (Lower Reach) | *398
|  |  | Just upstream of Burlington Northern & Santa Fe Railway | *402
|  | Post Oak Creek Tributary 5 | At the confluence with Post Oak Creek (Lower Reach) | *406
|  |  | Just upstream of Forrest Lane | *430
|  | Post Oak Creek Tributary 6 | At the confluence with Post Oak Creek (Upper Reach) | *411
|  |  | Approximately 190 feet upstream of Emhouse Road | *449
|  | South Fork Post Oak Creek | At the confluence with Post Oak Creek (Lower Reach) and Post Oak Creek (Upper Reach) | *408
|  |  | Approximately 1,490 feet upstream of North 29th Street | *438
|  | Town Branch | Approximately 150 feet upstream of the confluence with Mesquite Branch | *390
|  |  | Approximately 620 feet upstream of North 24th Street | *454
Maps are available for inspection at the Engineering Department, City of Corsicana Government Center, 200 North 12th Street, Corsicana, Texas.

(Catalog of Federal Domestic Assistance No. 83.100, “Flood Insurance.”)
Dated: March 25, 2005.
David I. Maurstad,
Acting Director, Mitigation Division, Emergency Preparedness and Response Directorate.

[FR Doc. 05-6435 Filed 3-31-05; 8:45 am]

BILLING CODE 9110-12-P